ENVIRONMENTAL PROTECTION AGENCY

[EPA-HQ-OAR-2003-0052; FRL-9935-45-OEI]

Information Collection Request Submitted to OMB for Review and Approval; Comment Request; Risk Management Program Requirements and Petitions To Modify the List of Regulated Substances (Renewal)

AGENCY: Environmental Protection Agency (EPA).

ACTION: Notice.

SUMMARY: The Environmental Protection Agency has submitted an information collection request (ICR), “Risk Management Program Requirements and Petitions to Modify the List of Regulated Substances under section 112(r) of the Clean Air Act (CAA)” (EPA ICR No. 1656.15, OMB Control No. 2050-0144) to the Office of Management and Budget (OMB) for review and approval in accordance with the Paperwork Reduction Act (44 U.S.C. 3501 et seq.). This is a proposed extension of the ICR, which is currently approved through December 31, 2015. Public comments were previously requested via the Federal Register (80 FR 33518) on June 12, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 16, 2015.

ADDRESSES: Submit your comments, referencing Docket ID No. EPA-HQ-OAR-2003-0052, to (1) EPA online using www.regulations.gov (our preferred method), or by mail to: EPA Docket Center, Environmental Protection Agency, Mail code: 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: James Belke, Office of Emergency Management, Mail Code 5104A, Environmental Protection Agency, 1200 Pennsylvania Ave. NW., Washington, DC 20460; telephone number: 202-564-8023; fax number: 202-564-2625; email address: belke.jim@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The 1990 CAA Amendments added section 112(r) to provide for the prevention and mitigation of accidental releases. Section 112(r) mandates that EPA promulgate a list of “regulated substances” with threshold quantities and establish procedures for the addition and deletion of substances from the list of regulated substances. Processes at stationary sources that contain more than a threshold quantity of a regulated substance are subject to accidental release prevention regulations promulgated under CAA section 112(r)(7). These two rules are codified as 40 CFR part 68. Part 68 requires that sources with more than a threshold quantity of a regulated substance in a process develop and implement a risk management program and submit a risk management plan to EPA. The compliance schedule for the Part 68 requirements, established by rule on June 20, 1996, requires the implementation of the source risk management programs and the submission of initial Risk Management Plans (RMPs) by June 21, 1999, and at least every five years after the initial submission. Sources must resubmit earlier than their next five-year deadline if they undergo certain changes to their covered processes as specified in Part 68. Therefore, after the initial submission, some sources re-submitted their RMPs prior to the next 5-year deadline because they had process changes that required an earlier update. These sources were then assigned a new five-year resubmission deadline based on the date of their revised plan submission. Most covered sources had no significant changes to their covered processes and therefore resubmitted their updated RMP on June 21, 2004. This same pattern continued through the next two submission cycles—some sources updated and resubmitted their RMP prior to their next five-year deadline and were assigned a new (off-cycle) five-year deadline, but a majority of sources submitted their updated RMP on or near the next scheduled five-year resubmission deadlines (June 2009 and June 2014). Similarly, while most sources' next submission is due in June 2019, because of off-cycle resubmission deadlines assigned to sources who have resubmitted RMPs prior to their next 5-year resubmission date, only a portion of the RMP-regulated universe has a submission deadline occurring in June 2019.

Other than the costs for gathering information and filling out the on-line RMP form, the regulations require sources to maintain on-site documentation, perform a compliance audit every three years, provide refresher training to employees, perform a hazard analysis at least every five years, etc. Some of these activities are expected to occur annually or are on-going. Some are required every three years or every five years, unless there are changes at the facility. Therefore, the burden and costs incurred by sources vary from ICR to ICR. The five-year resubmission deadline set by the regulations or assigned by EPA based on the latest RMP resubmission also will cause the burden to vary from ICR to ICR.

Form Numbers: 8700-25, 8700-27, 8700-28.

Respondents/affected entities: Chemical manufacturers, petroleum refineries, water treatment systems, agricultural chemical distributors, refrigerated warehouses, chemical distributors, non-chemical manufacturers, wholesale fuel distributors, energy generation facilities, etc.

Respondent's obligation to respond: Mandatory (40 CFR part 68).

Estimated number of respondents: 13,396 (total).

Frequency of response: On occasion.

Total estimated burden: 54,000 hours (per year). Burden is defined at 5 CFR 1320.03(b)

Total estimated cost: $6,680,625 (per year), includes $0 annualized capital or operation & maintenance costs.

Changes in the estimates: There is a decrease of 26,546 hours in the total estimated respondent burden compared with the ICR currently approved by OMB. The reason for this decrease is because this ICR period does not include a major filing deadline year and the previous ICR did include a major filing deadline. Second, the number of sources subject to the regulations fluctuates regularly, and is lower in this ICR period than in the previous ICR.

Courtney Kerwin,
Acting Director, Collection Strategies Division.

[FR Doc. 2015-26231 Filed 10-14-15; 8:45 am]

BILLING CODE 6560-50-P